DEPARTMENT OF ENERGY

[Docket No. RP01-314-001]

Williston Basin Interstate Pipeline Company; Notice of Compliance Tariff Filing

May 16, 2001

Take notice that on May 11, 2001, Williston Basin Interstate Pipeline Company (Williston Basin) tendered for filing as part of its FERC Gas Tariff, Second Revised Volume No. 1, the compliance tariff sheets listed on Appendix A to the filing, to become effective May 1, 2001.

Williston Basin states that on April 27, 2001, the Commission issued its “Order Accepting and Suspending Tariff Sheets, Subject to Refund and Conditions and Denying Request for Waiver, (Order)” in the above referenced docket. That Order accepted Williston Basin's proposed park and loan service subject to Williston Basin making a compliance filing to address the conditions of the Order. The instant filing is being made in compliance with the provisions of that Order.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http:­//www.ferc.fed.us/efi/doorbell.htm.

David P. Boergers,
Secretary.

[FR Doc. 01-12779 Filed 5-21-01; 8:45 am]

BILLING CODE 6717-01-M